DEPARTMENT OF LABOR

Employment and Training Administration

[TA-W-41,809]

Encana Energy Resources, Inc. Butte, Montana; Notice of Termination of Investigation

Pursuant to Section 221 of the Trade Act of 1974, an investigation was initiated on July 15, 2002, in response to a petition filed by a company official on behalf of workers at Encana Energy Resources, Inc., Butte, Montana.

The company official submitting the petition has requested that the petition be withdrawn. Consequently, further investigation in this case would serve no purpose and the investigation has been terminated.

Signed in Washington, DC this 10th day of September 2002.
Elliott S. Kushner,
Certifying Officer, Division of Trade Adjustment Assistance.

[FR Doc. 02-24507 Filed 9-26-02; 8:45 am]

BILLING CODE 4510-30-P